DEPARTMENT OF AGRICULTURE

Forest Service

Idaho (Boise, Caribou-Targhee, Salmon-Challis, and Sawtooth National Forests and Curlew National Grassland); Nevada (Humboldt-Toiyabe National Forest); Utah (Ashley, Dixie, Fishlake, Manti-La Sal, and Uinta-Wasatch-Cache National Forests); Wyoming (Bridger-Teton National Forest); and Wyoming/Colorado (Medicine Bow-Routt National Forest and Thunder Basin National Grassland) Amendments to Land Management Plans for Greater Sage-Grouse Conservation

AGENCY: Forest Service, USDA.

ACTION: Notice of Availability of the Draft Greater Sage-grouse Proposed Land Management Plan Amendments and Draft Environmental Impact Statement for the Intermountain and Rocky Mountain Regions.

SUMMARY: The U.S. Department of Agriculture, Forest Service has prepared the Draft Greater Sage-grouse Proposed Land Management Plan Amendments (LMPA) and Draft Environmental Impact Statement (EIS) for the Intermountain and Rocky Mountain Regions. This notice is announcing the opening of the comment period and the Forest Service is soliciting comments on the Draft LMPA and Draft EIS.

DATES: To ensure that comments will be considered, the Forest Service must receive written comments on the Draft LMPA/Draft EIS within 90 days following the date the Environmental Protection Agency publishes a notice of availability of the Draft LMPA/Draft EIS in the Federal Register. The Forest Service will announce future meetings or hearings and any other public participation activities at least 15 days in advance through public notices, media releases, and/or mailings.

ADDRESSES: Please submit comments via one of the following methods:

1. Public participation portal (preferred): https://cara.ecosystem-management.org/Public/CommentInput?project=52904.

2. Mail: Sage-grouse Amendment Comment, USDA Forest Service Intermountain Region, Federal Building, 324 25th Street, Ogden, UT 84401.

3. Email: comments-intermtn-regional-office@fs.fed.us.

4. Facsimile: 801-625-5277.

All comments, including names and addresses when provided, are placed in the record and are available for public inspection and copying. The public may inspect comments received online via the public reading room at: https://cara.ecosystem-management.org/Public/ReadingRoom?project=52904.

FOR FURTHER INFORMATION CONTACT: John Shivik at 801-625-5667 or email johnashivik@fs.fed.us. Individuals who use telecommunication devices for the deaf (TDD) may call the Federal Information Relay Service (FIRS) at1-800-877-8339 between 8:00 a.m. and 8:00 p.m., Eastern Time, Monday through Friday.

SUPPLEMENTARY INFORMATION: Greater sage-grouse (Centrocercus urophasianus) is a species that is dependent on sagebrush steppe ecosystems. These ecosystems are managed in partnership across the range of the greater sage-grouse by federal, state, and local authorities and private landowners. Efforts to conserve the species and its habitat date back to the 1950s. Over the past two decades, state wildlife agencies, federal agencies, and many others have been collaborating to conserve greater sage-grouse and its habitats.

The National Forest Management Act of 1976 (NFMA) directs the Forest Service to develop, maintain, and, as appropriate, revise land management plans which guide management of National Forest System (NFS) lands (16 U.S.C. 1604(a)). In March 2010, the United States Department of the Interior Fish and Wildlife Service (USFWS) issued a 12 Month Finding for Petitions to List the greater sage-grouse as Threatened or Endangered (75 FR 13910). In that 12-Month Finding, the USFWS concluded that listing the greater sage-grouse as a threatened or endangered species was “warranted, but precluded by higher priority listing actions.” The 2010 USFWS listing decision prompted a Forest Service and Bureau of Land Management (BLM) joint planning effort to amend Forest Service land management plans and BLM equivalents to incorporate conservation measures to support the continued existence of the greater sage-grouse. For the Forest Service, this effort culminated in the Forest Service Greater Sage-grouse Records of Decisions (RODs) that were signed on September 16, 2015.

On October 2, 2015, the USFWS found that listing the greater sage-grouse under the Endangered Species Act was not warranted (80 FR 59858). The USFWS based its finding on regulatory certainty from the conservation measures in the Forest Service and BLM greater sage-grouse land management plan amendments and revisions, as well as on other private, state, and federal conservation efforts.

The plan amendments have been challenged in court. One challenge involved the designation of sagebrush focal areas between the Draft and Final EISs. On March 31, 2017, the United States District Court for the District of Nevada held that the Forest Service violated the National Environmental Policy Act (NEPA) by failing to provide the public with enough information to meaningfully participate in the EIS process in the Nevada and Northeastern California Greater Sage-grouse Land Management Plan Amendment. The court ordered the Forest Service to prepare a Supplemental EIS to allow the public the opportunity to comment on the designation of sagebrush focal areas in the amendments. Western Exploration, LLC v. U.S. Dept. of Interior, 250 F. Supp.3d 718, 750-751.

Since approving the plan amendments in 2015, the Forest Service has gathered information and determined that the conservation benefits of Forest Service plans in Nevada and other states can be improved. That is, through repeated scoping, close collaboration with state and other federal agencies, and internal review, the Forest Service has identified proposed changes in the text of the greater sage-grouse plan amendments which would improve their clarity and efficiency and better align them with the Bureau of Land Management and state plans.

The substantive requirements of the 2012 Planning Rule (36 CFR 219) that are applicable to the amendments are in sections 219.8(a) and (b) (ecological and social and economic sustainability), 219.9 (diversity of plant and animal communities), and 219.10(a) (integrated resource management for ecosystem services and multiple use) have been incorporated into the proposed amendment.

Purpose and Need for Action

The purpose of the proposed action is to incorporate new information and to improve the clarity, efficiency, and implementation of greater sage-grouse plans, including better alignment with BLM and state plans, in order to benefit greater sage-grouse conservation on the landscape scale. The need for further plan amendments is that the Forest Service has gained new information and understanding from new science, as well as having received approximately 55,000 comments from the 2017 Notice of Intent, approximately 8,700 comments from the 2018 Supplemental NOI, and comments from within-agency scoping and monitoring and from coordinating with the Western Governors' Association Sage Grouse Task Force.

Proposed Action and Alternatives

The Forest Service analyzed three alternatives. Under Alternative 1, the No Action Alternative, the Forest Service would not amend current land management plans. This alternative retains sagebrush focal areas and all other aspects of the plans. Alternative 2, the Preferred Alternative, is the proposed action and makes modifications to the No Action Alternative. Specifically, the Preferred Alternative makes modifications to land management plans within the issue areas of: Habitat management area designation, including designating sagebrush focal areas as Priority Habitat Management Areas compensatory mitigation and net conservation gain; minerals plan components and waivers; exceptions and modifications; desired conditions; livestock grazing guidelines; adaptive management; treatment of invasive species; and changes to clarify text and eliminate errors and redundancies. Alternative 3, the State of Utah Alternative, incorporates all aspects of Alternative 2, with the addition of two additional modifications to plans within the state of Utah. Specifically, the Forest Service would remove the General Habitat Management Areas (GHMA) designation from Forest Service lands in Utah and would also remove the Anthro Mountain management area from habitat management area designation on the Ashley National Forest.

The Draft EIS analyzes the reasonably foreseeable effects of these changes. The entire text of the Draft EIS can be found on the Intermountain Region home page: https://www.fs.usda.gov/detail/r4/home/?cid=stelprd3843381.

Responsible Officials

The responsible officials who would approve plan amendments are the Regional Foresters for the Intermountain and Rocky Mountain Regions.

Public Comment Opportunity

The public is encouraged to comment on the Draft EIS and proposed plan amendments. Comments received in response to this solicitation, including names and addresses of those who comment, will be part of the public record for this proposed action. Comments submitted anonymously will be accepted and considered; however, anonymous comments will not provide the Agency with the ability to provide the respondent with subsequent environmental documents.

Dated: September 6, 2018.
Allen Rowley,
Acting Associate Deputy Chief, National Forest System.

[FR Doc. 2018-21619 Filed 10-4-18; 8:45 am]

BILLING CODE 3411-15-P